DEPARTMENT OF COMMERCE

National Oceanic and Atmospheric Administration

RIN 0648-XA749

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Information and Education Advisory Panel (AP) and a Social Media Workshop in conjunction with the South Carolina Sea Grant Consortium in North Charleston, SC.

DATES: The meeting and workshop will take place October 25-27, 2011. See SUPPLEMENTARY INFORMATION for specific dates and times.

ADDRESSES: The meeting and workshop will be held at the Hilton Garden Inn, 5265 International Blvd., North Charleston, SC 29418; telephone: (800) 445-8667; fax: (843) 308-9331.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; e-mail: kim.iverson@safmc.net.

SUPPLEMENTARY INFORMATION: Members of the Information and Education AP will meet from 1:30 p.m. until 5 p.m. on October 25, 2011 and from 8:30 a.m. until 12 noon on October 26, 2011. The Social Media Workshop will be conducted from 1:30 p.m. until 5 p.m. on October 26, 2011 and from 8:30 a.m. until 3 p.m. on October 27, 2011.

Issues to be addressed at the Information and Education AP meeting include: An overview of current outreach activities by the Council, new outreach efforts proposed for Special Management Zones in the South Atlantic Exclusive Economic Zone, and strategic planning for outreach efforts by the Council. The AP members will be asked to provide recommendations for consideration.

Following the AP meeting, the Council and SC Sea Grant will co-host a Social Media Workshop for members of the AP and other invited presenters and participants. The workshop will focus on current social media tools currently being used by various agencies and include presentations on Facebook, Twitter, YouTube, and other media outlets along with a panel discussion.

Special Accommodations

These meetings are physically accessible to people with disabilities. Requests for auxiliary aids should be directed to the council office (see ADDRESSES) 3 days prior to the meeting.

Note: The times and sequence specified in this agenda are subject to change.

Dated: October 3, 2011.
Tracey L. Thompson,
Acting Director, Office of Sustainable Fisheries, National Marine Fisheries Service.

[FR Doc. 2011-25846 Filed 10-5-11; 8:45 am]

BILLING CODE 3510-22-P